DEPARTMENT OF DEFENSE

Office of the Secretary

[Docket ID DoD-2013-OS-0088]

Proposed Collection; Comment Request

AGENCY: Office of the Under Secretary of Defense (Personnel and Readiness), DoD.

ACTION: Notice.

In compliance with Section 3506(c)(2)(A) of the Paperwork Reduction Act of 1995, the Office of the Under Secretary of Defense (Personnel and Readiness) announces a proposed public information collection and seeks public comment on the provisions thereof. Comments are invited on: (a) Whether the proposed collection of information is necessary for the proper performance of the functions of the agency, including whether the information shall have practical utility; (b) the accuracy of the agency's estimate of burden of the proposed information collection; (c) ways to enhance the quality, utility, and clarity of the information to be collected; and (d) ways to minimize the burden of the information collection on respondents, including through the use of automated collection techniques or other forms of information technology.

DATES: Consideration will be given to all comments received by June 28, 2013.

ADDRESSES: You may submit comments, identified by docket number and title, by any of the following methods:

• Federal eRulemaking Portal: http://www.regulations.gov. Follow the instructions for submitting comments.

• Mail: Federal Docket Management System Office, 4800 Mark Center Drive, East Tower, 2nd floor, Suite 02G09, Alexandria, VA 22350-3100.

Instructions: All submissions received must include the agency name, docket number and title for this Federal Register document. The general policy for comments and other submissions from members of the public is to make these submissions available for public viewing on the Internet at http://www.regulations.gov as they are received without change, including any personal identifiers or contact information.

Any associated form(s) for this collection may be located within this same electronic docket and downloaded for review/testing. Follow the instructions at http://www.regulations.gov for submitting comments. Please submit comments on any given form identified by docket number, form number, and title.

FOR FURTHER INFORMATION CONTACT: To request more information on this proposed information collection or to obtain a copy of the proposal and associated collection instruments, please write to the Federal Voting Assistance Program ATTN: Mr. David Beirne, 4800 Mark Center Drive, Suite 03J25 Alexandria, VA 22350, or call at (571) 372-0740.

Title, Associated Form, and OMB Control Number: The 2013 FVAP Ethnographies, Focus Groups, and Surveys; OMB Control Number 0704-TBD.

Needs and Uses: The primary objective of the set of information collections referred to as the 2013 FVAP Ethnographies, Focus Groups, and Surveys, conducted on behalf of the Federal Voting Assistance Program (FVAP), an agency of the Department of Defense, is to examine the attitudes, experiences, and behaviors of a number of actors involved in the absentee voting process as it pertains to CONUS and OCONUS military voters and overseas voters covered under the Uniformed and Overseas Civilian Absentee Voting Act (UOCAVA). This research will explore potential deficiencies, risks, and pitfalls which serve as barriers to voting success among these UOCAVA voters. The data obtained through this study will provide an assessment of potential changes to address current barriers to UOCAVA voting.

Specifically, this effort will be comprised of the following research components:

• 39 ethnographies among non-military and non-U.S. government individuals;

• 48 ethnographies with Local Election Officials;

• 28 ethnographies among spouses/adult children of active duty U.S. military service members;

• 24 focus groups among non military UOCAVA voters;

• 8 focus groups among military spouses/adult children;

• 4 focus groups among non military non voters;

• Survey of 4,000 non military UOCAVA voters;

• 2 final focus groups among military spouses/adult children.

Affected Public: Non-military UOCAVA voters including military spouses and adult children, non-military and non-U.S. government individuals, and Local Election Officials.

Annual Burden Hours: 2,323 hours total. Time estimates by research methodology as follows:

• 39 ethnographies among non-military and non-U.S. government individuals: 78 hours (2 hours per respondent)

• 48 ethnographies with Local Election Officials: 96 hours (2 hours per respondent)

• 28 ethnographies among spouses/adult children of active duty U.S. military service members: 56 hours (2 hours per respondent)

• 24 focus groups among non military UOCAVA voters: 480 hours (2 hours per respondent; 10 respondents per group; 240 respondents)

• 8 focus groups among military spouses/adult children: 160 hours (2 hours per respondent; 10 respondents per group; 80 respondents)

• 4 focus groups among non military non voters: 80 hours (2 hours per respondent; 10 respondents per group; 40 respondents)

• Survey of 4,000 non military UOCAVA voters: 1,333 hours (20 minutes per respondent)

• 2 final focus groups among military spouses/adult children: 40 hours (2 hours per respondent; 10 respondents per group; 20 respondents)

Number of Respondents: 4,495.

Responses per Respondent: 1.

Average Burden per Response: Ethnographies and Focus Groups: 2 hours each. Survey: 20 minutes.

Frequency: One time.

SUPPLEMENTARY INFORMATION:

Summary of Information Collection

The Uniformed and Overseas Citizens Absentee Voting Act (UOCAVA) requires the States to allow Uniformed Services personnel, their family members, and overseas citizens to use absentee registration procedures and to vote by absentee ballot in general, special, primary, and runoff elections for Federal offices. The Act covers members of the Uniformed Services and the merchant marine to include the commissioned corps of the National Oceanic and Atmospheric Administration and Public Health Service and their eligible dependents, Federal civilian employees overseas, and overseas U.S. citizens not affiliated with the Federal Government. Local Election Officials (LEO) process voter registration and absentee ballot applications, send absentee ballots to voters, and receive and process the voted ballots in counties, cities, parishes, townships and other jurisdictions within the U.S. LEOs, independently and in relation to their respective State election officials, are often one of the most important pieces in the absentee voting process for UOCAVA citizens. The 2013 FVAP Ethnographies, Focus Groups, and Surveys research project will examine attitudes, experiences, and behaviors of LEOs and UOCAVA voters around the UOCAVA voting process. The research will explore the deficiencies, risks, and pifalls that serve as key barriers to UOCAVA voting success and will provide insights and recommendations for potential changes to address obstacles in the UOCAVA voting process. The study involves both qualitative and quantitative data collection methods. The research findings will be used for overall rogram evaluation, management and improvement.

Dated: April 15, 2013.
Aaron Siegel,
Alternate OSD Federal Register Liaison Officer, Department of Defense.

[FR Doc. 2013-10027 Filed 4-26-13; 8:45 am]

BILLING CODE 5001-06-P